DEPARTMENT OF COMMERCE

International Trade Administration

Antidumping or Countervailing Duty Order, Finding, or Suspended Investigation; Opportunity To Request Administrative Review

Correction

In notice document E4-3911 beginning on page 74 in the issue of Monday, January 3, 2005 make the following correction:

On page 74, in the table, under the “Period” heading, in the ninth entry “2/31/04” should read “12/31/04 ”.

[FR Doc. Z4-3911 Filed 1-10-05; 8:45 am]

BILLING CODE 1505-01-D